CORPORATION FOR NATIONAL AND COMMUNITY SERVICE

Information Collection; Submission for OMB Review; Comment Request

AGENCY: Corporation for National and Community Service.

ACTION: Notice.

The Corporation for National and Community Service (hereinafter the “Corporation”), has submitted the following public information collection requests (ICRs) to the Office of Management and Budget for review and approval in accordance with the Paperwork Reduction Act of 1995 (Pub. L. 104-13. (44 U.S.C. Chapter 35)). Copies of these individual ICRs, with applicable supporting documentation, may be obtained by calling the Corporation for National and Community Service, Office of Evaluation, Marcia Scott, (202) 606-5000, extension 100. Individuals who use a telecommunications device for the deaf (TTY/TDD) may call (202) 606-5256 between the hours of 9:00 a.m. and 4:30 p.m. Eastern time, Monday through Friday.

Comments should be sent to the Office of Information and Regulatory Affairs, Attn: Mr. Danny Werfel, OMB Desk Officer for the Corporation for National and Community Service, Office of Management and Budget, Room 10235, Washington, D.C. 20503, (202) 395-7326, within 30 days of this publication in the Federal Register.

The OMB is particularly interested in comments which:

• Evaluate whether the proposed collection of information is necessary for the proper performance of the Corporation, including whether the information will have practical utility;

• Evaluate the accuracy of the agency's estimate of the burden of the proposed collection of information, including the validity of the methodology and assumptions used;

• Propose ways to enhance the quality, utility and clarity of the information to be collected; and

• Propose ways to minimize the burden of the collection of information to those who are to respond, including through the use of appropriate automated, electronic, mechanical, or other technological collection techniques or other forms of information technology, e.g., permitting electronic submissions of responses.

Type of Review: New.

Agency: Corporation for National and Community Service.

Title: Long-term Study of Member Outcomes.

OMB Number: None.

Agency Number: None.

Affected Public: AmeriCorps members, comparison group individuals, AmeriCorps program administrators.

Total Respondents: 3,456.

• 1,792 AmeriCorps members (1,410 State/National and 382 NCCC).

• 1,552 individuals in the comparison groups (1,223 individuals who inquired about AmeriCorps through the CNS inquiry line for the State/National comparison group; 329 individuals from the NCCC program's wait list for the NCCC comparison group).

• 112 AmeriCorps program administrators.

Frequency:

• AmeriCorps members at post-program (eight months after baseline).

• Comparison group individuals eight months after baseline.

• Program characteristics from AmeriCorps administrators at post-program.

• AmeriCorps member and comparison group follow-up at three years after baseline (approximately two years after the post-program survey).

Average Time Per Response:

• The Post-program survey of members will require an average of 45 minutes per respondent.

• The initial follow-up survey of individuals in the comparison groups will take an average of 30 minutes per respondent.

• The survey of AmeriCorps program administrators will take an average of 20 minutes per program.

• Follow-up surveys of AmeriCorps members and individuals in the comparison group at three years after baseline will take an average of 30 minutes per respondent.

Estimated Total Burden Hours: 3,831 hours.

Total Burden Cost (capital/startup): None.

Total Burden Cost (operating/maintenance): None.

Description: The Corporation seeks approval to continue to study the impact of AmeriCorps*State/National and AmeriCorps*NCCC on members over time. The objectives of this study are to describe the outcomes that are associated with participating and document changes in those outcomes over time; to identify factors explaining variation in outcomes at different stages of time; and to identify relationships between selected program features and member outcomes. Outcome domains will include civic engagement, educational skill aspiration and achievements, employment skill aspiration and achievements, and life skills. To meet these objectives, the study has selected a nationally representative sample of incoming AmeriCorps members from over 100 programs to ensure generalizability to the overall population. The study is collecting baseline data from a self-report survey measuring a variety of life outcomes for AmeriCorps members of State/National and NCCC programs as well as individual background characteristics.

To fully understand the impacts that cause change in outcomes, the study has selected a comparison group for both programs and has completed collecting baseline information on those individuals. The initial round of data collection for this study was authorized under OMB approval 3045-0060 which expires September 30, 2002. This is a request to conduct two additional rounds of data collection on the study: (1) surveys of treatment and comparison group members at two time points: ten months and two years after baseline; and (2) a survey of AmeriCorps program administrators at the end of the 1999-2000 program year.

Dated: June 9, 2000.
William H. Bentley,
Director, Department of Evaluation and Effective Practices.

[FR Doc. 00-15008 Filed 6-13-00; 8:45 am]

BILLING CODE 6050-28-P